DEPARTMENT OF HOMELAND SECURITY

Federal Emergency Management Agency

44 CFR Part 65

[Docket No. FEMA-B-7789]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changed BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Madison | City of Huntsville (08-04-1222P) | May 9, 2008; May 16, 2008; Madison County Record | The Honorable Loretta Spencer, Mayor, City of Huntsville, P.O. Box 308, Huntsville, AL 35804 | September 15, 2008 | 010153
California: Placer | City of Lincoln (07-09-0934P) | May 21, 2008; May 28, 2008; Roseville Press-Tribune | The Honorable Primo Santini, Mayor, City of Lincoln, 640 Fifth Street, Lincoln, CA 95648 | September 25, 2008 | 060241
California: Placer | Unincorporated areas of Placer County (07-09-0934P) | May 21, 2008; May 28, 2008; Roseville Press-Tribune | The Honorable Jim Holmes, Chairman, Placer County, Board of Supervisors, 175 Fulweiler Avenue, Auburn, CA 95603 | September 25, 2008 | 060239
California: Shasta | Unincorporated areas of Shasta County (08-09-0622P) | May 21, 2008; May 28, 2008; Valley Post | The Honorable Mark Cibula, Supervisor, District Two, Shasta County, 1450 Court Street, Suite 308B, Redding, CA 96001 | September 25, 2008 | 060358
Florida: Polk | City of Winter Haven (07-04-5629P) | May 7, 2008; May 14, 2008; Polk County Democrat | The Honorable Nathaniel Birdsong, Mayor, City of Winter Haven, P.O. Box 2277, Winter Haven, FL 33883 | September 11, 2008 | 120271
Indiana: Lake | Town of St. John (08-05-1094P) | May 22, 2008; May 29, 2008; Post Tribune | The Honorable Michael S. Fryzel, Mayor, Town of St. John, 10955 West 93rd Avenue, St. John, IN 46373 | May 16, 2008 | 180141
Kansas: Sedgwick | City of Goddard (08-07-0155P) | May 29, 2008; June 6, 2008; Wichita Eagle | The Honorable Marcey Gregory, Mayor, City of Goddard, P.O. Box 667, Goddard, KS 67052 | May 21, 2008 | 200500
Nevada: Clark | City of Henderson (08-09-0980X) | May 22, 2008; May 29, 2008; Las Vegas Review-Journal | The Honorable James B. Gibson, Mayor, City of Henderson, 240 South Water Street, Henderson, NV 89015 | September 17, 2008 | 320005
Texas: Brazos | Unincorporated areas of Brazos County (07-06-2185P) | May 14, 2008; May 21, 2008; Bryan College Station Eagle | The Honorable Amanda S. Matzke, Brazos County Judge, 300 East 26th Street, Suite 211, Bryan, TX 77803 | September 16, 2008 | 481195
Texas: Brazos | City of Bryan (07-06-2185P) | May 14, 2008; May 21, 2008; Bryan College Station Eagle | The Honorable D. Mark Conlee, Mayor, City of Bryan, 300 South Texas Avenue, Bryan, TX 77803 | September 16, 2008 | 480082
Texas: Gillespie | Unincorporated areas of Gillespie County (08-06-0677P) | May 28, 2008; June 4, 2008; Fredericksburg Standard-Radio Post | The Honorable Mark Stroeher, Gillespie County Judge, 101 West Main Street, Fredericksburg, TX 78624 | October 3, 2008 | 480696
Texas: Lubbock | City of Lubbock (08-06-0728P) | May 23, 2008; May 30, 2008; Lubbock Avalanche Journal | The Honorable David A. Miller, Mayor, City of Lubbock, P.O. Box 2000, Lubbock, TX 79457 | May 16, 2008 | 480452
Texas: Parker | Unincorporated areas of Parker County (08-06-0872P) | May 7, 2008; May 14, 2008; Weatherford Democrat | The Honorable Mark Riley, Parker County Judge, One Courthouse Square, Weatherford, TX 76086 | April 29, 2008 | 480520
Texas: Williamson | City of Cedar Park (08-06-1336P) | May 29, 2008; June 5, 2008; Round Rock Leader | The Honorable Bob Lemon, Mayor, City of Cedar Park, 600 North Bell Boulevard, Cedar Park, TX 78613 | May 16, 2008 | 481282
Wisconsin: Kenosha | Village of Pleasant Prairie (08-05-2135P) | May 30, 2008; June 6, 2008; Kenosha News | The Honorable John Steinbrink, Village President, Village of Pleasant Prairie, 8640 88th Avenue, Pleasant Prairie, WI 53158 | May 16, 2008 | 550613

(Catalog of Federal Domestic Assistance No. 97.022, “Flood Insurance.”)

Dated: June 20, 2008.
David I. Maurstad,
Federal Insurance Administrator of the National Flood Insurance Program, Department of Homeland Security, Federal Emergency Management Agency.

[FR Doc. E8-14709 Filed 6-27-08; 8:45 am]

BILLING CODE 9110-12-P